DEPARTMENT OF JUSTICE

[OMB Number 1105-0097]

Agency Information Collection Activities; Proposed eCollection eComments Requested; Extension With Change, of a Previously Approved Collection; Leased/Charter/Contract Personnel Expedited Clearance Request

AGENCY: U.S. Marshals Service, Department of Justice.

ACTION: 60-day notice.

SUMMARY: The Department of Justice (DOJ), U.S. Marshals Service, will be submitting the following information collection request to the Office of Management and Budget (OMB) for review and approval in accordance with the Paperwork Reduction Act of 1995.

DATES: Comments are encouraged and will be accepted for 60 days until September 28, 2015.

FOR FURTHER INFORMATION CONTACT: If you have additional comments especially on the estimated public burden or associated response time, suggestions, or need a copy of the proposed information collection instrument with instructions or additional information, please contact Nicole Feuerstein, Publications Specialist, U.S. Marshals Service, CS-3, 10th Floor, Washington, DC 20530-0001 (phone: 202-307-5168).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Extension of a currently approved collection.

2. The Title of the Form/Collection: Leased/Charter/Contract Personnel Expedited Clearance Request

3. The agency form number, if any, and the applicable component of the Department sponsoring the collection: The form number is USM-271. The applicable component within the Department of Justice is the U.S. Marshals Service.

4. Affected public who will be asked or required to respond, as well as a brief abstract: Primary: Individuals or households. This form is to be completed by people applying to become contract personnel. It is required so that USMS can perform an expedited background check before workers may be hired to transport USMS and Bureau of Prisons prisoners.

5. An estimate of the total number of respondents and the amount of time estimated for an average respondent to respond: USMS estimates that approximately 180 applicants will complete Form-271. Based on testing, it takes an average of 5 minutes for the applicant to complete a Form USM-271. The USMS will use Form USM-271 to conduct a National Criminal Information Center (NCIC) check for each temporary contractor (working on contract 6 months or less and require physical access only) to determine eligibility to work on USMS contracts.

The following factors were considered when created the burden estimate: The estimated total number of active personal service contract guards, and the number of leased/charter flights over the previous fiscal year.

6. An estimate of the total public burden (in hours) associated with the collection: The estimated public burden associated with this collection is 15 hours. It is estimated that applicants will take 5 minutes to complete a Form USM-271. In order to calculate the public burden for Form USM-271, USMS multiplied 5 by 180 and divided by 60 (the number of minutes in an hour), which equals 15 total annual burden hours.

If additional information is required contact: Jerri Murray, Department Clearance Officer, United States Department of Justice, Justice Management Division, Policy and Planning Staff, Two Constitution Square, 145 N street NE., 3E.405B, Washington, DC 20530.

Dated: July 27, 2015.
Jerri Murray,
Department Clearance Officer for PRA, U.S. Department of Justice.

[FR Doc. 2015-18652 Filed 7-29-15; 8:45 am]

BILLING CODE 4410-04-P